DEPARTMENT OF TRANSPORTATION

National Highway Traffic Safety Administration

Denial of Motor Vehicle Defect Petition, DP02-009

AGENCY: National Highway Traffic Safety Administration (NHTSA), Department of Transportation.

ACTION: Denial of petition for a defect recall.

SUMMARY: This notice sets forth the reasons for the denial of a petition submitted to NHTSA under 49 U.S.C. 30162, requesting that the agency initiate an investigation of model year (MY) 1995 Dodge Dakota vehicles to address an alleged safety-related defect. The petition is identified as DP02-009.

FOR FURTHER INFORMATION CONTACT: Mr. Jonathan White, Office of Defects Investigation (ODI), NHTSA, 400 Seventh Street, SW., Washington, DC 20590. Telephone: (202) 366-5226.

SUPPLEMENTARY INFORMATION: Mr. Edward W. Bailey of Metairie, LA, submitted a petition to NHTSA by letter (undated), requesting that NHTSA initiate a defect investigation of model year (MY) 1995 Dodge Dakota vehicles. The petitioner alleges that the chassis on the passenger side of his vehicle cracked behind the right front wheel, through no fault of his own, which he believes constitutes a safety defect. A review of ODI's database shows that there are nine consumer complaints related to frame cracks on MY 1995-96 Dodge Dakota vehicles (hereinafter referred to as the subject vehicles), not including the petitioner's complaint. No similar complaints were found in the three model years (1992, 1993, 1994) prior to the subject vehicle model years, and no complaints were found in any model years after the subject vehicles. None of the complaints reported loss of control, crashes, injuries, or fatalities. Furthermore, a similar review of consumer complaints of frame cracks on vehicles that are peers of the subject vehicles also shows no reports of loss of control, crashes, injuries or fatalities. Most of the complainants who own or owned the subject vehicles were contacted to confirm the reported information and obtain additional information. The average mileage at failure of the frame on the subject vehicles was reported by consumers to be approximately 93,000.

After review and analysis of all the available information, it does not appear that cracking of the frame in the subject vehicles at the rate reported constitutes a defect in vehicles that average 93,000 miles. This is especially true given that there have been no reported crashes, injuries, or deaths. Therefore, we do not believe that an investigation would result in the identification of a potential safety-related defect and this petition is denied.

In view of the foregoing, it is unlikely that NHTSA would issue an order for the notification and remedy of an alleged safety-related defect, as defined by the petitioner, in the subject vehicles at the conclusion of an investigation. Therefore, in view of the need to allocate and prioritize NHTSA's limited resources to best accomplish the agency's safety mission, the petition is denied.

Authority: 49 U.S.C. 30162(d); delegations of authority at CFR 1.50 and 501.8.

Issued on: December 22, 2002.
Kenneth N. Weinstein,
Associate Administrator for Enforcement.

[FR Doc. 03-209 Filed 1-3-03; 8:45 am]

BILLING CODE 4910-59-P